DEPARTMENT OF JUSTICE

Community Oriented Policing Services; Public Meeting With the President's Task Force on 21st Century Policing Discussing Best Practices and Recommendations

AGENCY: Community Oriented Policing Services, Justice.

ACTION: Notice of meeting.

SUMMARY: On December 18, 2014, President Barack Obama signed an Executive Order titled “Establishment of the President's Task Force on 21st Century Policing” establishing the President's Task Force on 21st Century Policing (“Task Force”). The Task Force seeks to identify best practices and make recommendations to the President on how policing practices can promote effective crime reduction while building public trust and examine, among other issues, how to foster strong, collaborative relationships between local law enforcement and the communities they protect. The Task Force will be holding a public teleconference.

The meeting agenda is as follows:

Call to Order

Discussion of best practices and recommendations

Conclusion

DATES: The teleconference will be held Tuesday, February 24, 2015 from 9:00 a.m. to 5:00 p.m. Eastern Standard Time.

For disability access please call 1-800-888-8888 (TTY users call via Relay).

ADDRESSES: The meeting will be held by teleconference only. To access the conference line, please call 1-866-906-7447 and, when prompted, enter access code 8072024#.

FOR FURTHER INFORMATION CONTACT: Director, Ronald L. Davis, 202-514-4229 or PolicingTaskForce@usdoj.gov.

Address all comments concerning this notice to PolicingTaskForce@usdoj.gov.

SUPPLEMENTARY INFORMATION:

Electronic Access and Filing Addresses

The Task Force is interested in receiving written comments including proposed recommendations from individuals, groups, advocacy organizations, and professional communities. Additional information on how to provide your comments will be posted to www.cops.usdoj.gov/PolicingTaskForce.

Availability of Meeting Materials: The agenda and other materials in support of the teleconference will be available on the Task Force Web site at www.cops.usdoj.gov/PolicingTaskForce in advance of the teleconference.

Ronald L. Davis,
Director.

[FR Doc. 2015-02463 Filed 2-5-15; 8:45 am]

BILLING CODE 4410-AT-P